DEPARTMENT OF AGRICULTURE

Forest Service

Meeting of the Land Between The Lakes Advisory Board

AGENCY: Forest Service, USDA.

ACTION: Notice of meeting.

SUMMARY: The Land Between The Lakes Advisory Board will hold a meeting on April 23, 2013. Notice of this meeting is given under the Federal Advisory Committee Act, 5 U.S.C. App 2. The meeting agenda will focus on existing Environmental Education programs and improving engagement with regional school groups. The meeting is open to the public. Written commens are invited and should be sent to Bill Lorenz, Acting Area Supervisor, Land Between The Lakes, 100 Van Morgan Drive, Golden Pond, KY 42211 and must be received by April 16, 2013 in order for copies to be provided to the members for this meeting. Board members will review written comments received, and at their request, oral clarification may be requested for a future meeting.

DATES: The meeting will be held Tuesday, April 23, 2013 from 9:00 a.m. to approximately 4:00 p.m. CST. Comments must be received, in writing, on or before May 31, 2013.

ADDRESSES: The meeting will be held at Paris Landing State Park, 16055 U.S. 79 Buchanan, TN 38222.

FOR FURTHER INFORMATION CONTACT: Linda L. Taylor, Advisory Board Liaison, Land Between The Lakes, 100 Van Morgan Drive, Golden Pond, KY 42211, 270-924-2002. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Board discussion is limited to Forest Service staff and Board members.

Dated: March 25, 2013.
William R. Lorenz,
Acting Area Supervisor, Land Between The Lakes.

[FR Doc. 2013-07502 Filed 3-29-13; 8:45 am]

BILLING CODE 3410-11-P